DEPARTMENT OF VETERANS AFFAIRS

[OMB Control No. 2900-0688]

Agency Information Collection Activity: Department of Veterans Affairs Acquisition Regulation (VAAR), Security for Government Financing

AGENCY: The Office of Management (OM), Department of Veterans Affairs.

ACTION: Notice.

SUMMARY: In compliance with the Paperwork Reduction Act (PRA) of 1995, this notice announces that the Office of Management (OM), Department of Veterans Affairs (VA), will submit the collection of information abstracted below to the Office of Management and Budget (OMB) for review and comment. The PRA submission describes the nature of the information collection and its expected cost and burden and it includes the actual data collection instrument.

DATES: Comments must be submitted on or before May 10, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0688” in any correspondence.

FOR FURTHER INFORMATION CONTACT: Cynthia Harvey-Pryor, Enterprise Records Service (005R1B), Department of Veterans Affairs, 810 Vermont Avenue NW, Washington, DC 20420, (202) 461-5870 or email cynthia.harvey-pryor@va.gov. Please refer to “OMB Control No. 2900-0688” in any correspondence.

SUPPLEMENTARY INFORMATION:

Authority: Public Law 104-13; 44 U.S.C. 3501-3521.

Title: Department Of Veterans Affairs Acquisition Regulation (VAAR) 832.202-4, Security for Government Financing.

OMB Control Number: 2900-0688.

Type of Review: Extension of a currently approved collection.

Abstract: This request for an extension is for VAAR 832.202-4, Security for Government Financing. FAR subpart 32.2 authorizes the use of certain types of Government financing on commercial item purchases. 41 U.S.C. 255(f) requires the Government to obtain adequate security for Government financing. However, FAR 32.202-4(a)(2) provides that, subject to agency regulations, the contracting officer may determine that an offeror's financial condition is adequate security. VAAR 832.202-4, Security for Government Financing, specifies the type of information that the contracting officer may obtain to determine whether or not the offeror's financial condition constitutes adequate security.

The information that is gathered under VAAR 832.202-4 will be used by the VA contracting officer to assess whether or not the contractor's overall financial condition represents adequate security to warrant paying the contractor in advance.

An agency may not conduct or sponsor, and a person is not required to respond to a collection of information unless it displays a currently valid OMB control number. The Federal Register Notice with a 60-day comment period soliciting comments on this collection of information was published at Volume 83, No. 7, January 10, 2018, pages 1286.

Affected Public: Business or other for-profit and not-for-profit institutions.

Estimated Annual Burden: VAAR 832.202-4—10 Burden Hours.

Estimated Average Burden Per Respondent: VAAR 832.202-4—1 Hour.

Frequency of Response: On occasion.

Estimated Number of Respondents: VAAR 832.202-4 —10.

By direction of the Secretary.
Cynthia Harvey-Pryor,
Department Clearance Officer, Office of Quality, Privacy and Risk, Department of Veterans Affairs.

[FR Doc. 2018-07342 Filed 4-9-18; 8:45 am]

BILLING CODE 8320-01-P